DEPARTMENT OF COMMERCE

National Oceanic and Atmospheric Administration

[I.D. 100405A]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene a meeting of its Ecosystem Scientific and Statistical Committee (SSC) in Tampa, FL on Thursday, October 27, 2005.

DATES: The meeting will be held Thursday, October 27, from 10 a.m. to 5 p.m.

ADDRESSES: The meeting will be held at the Quorum Hotel - Tampa, 700 North Westshore Boulevard, Tampa, FL 33609.

Council address: Gulf of Mexico Fishery Management Council, 2203 North Lois Avenue, Suite 1100, Tampa, FL 33607.

FOR FURTHER INFORMATION CONTACT: Steven Atran, Population Dynamics Statistician, Gulf of Mexico Fishery Management Council; telephone: 813.348.1630.

SUPPLEMENTARY INFORMATION: The Gulf of Mexico Fishery Management Council (Council) will convene its Ecosystem Scientific and Statistical Committee (SSC) in Tampa, Florida to review the work it has done to date in compiling information to use in developing a fisheries ecosystem plan (FEP), and will discuss a timeline for completion of a draft FEP. The SSC will also discuss the impacts of Hurricanes Katrina and Rita relevant to fishery management on the Gulf of Mexico Ecosystem and may make recommendations to the Council.

Copies of the agenda and other related materials can be obtained by calling 813.348.1630. Although other non-emergency issues not on the agendas may come before the SSC for discussion, in accordance with the Magnuson-Stevens Fishery Conservation and Management Act (Magnuson-Stevens Act), those issues may not be the subject of formal action during these meetings. Actions of the SSC will be restricted to those issues specifically identified in the agendas and any issues arising after publication of this notice that require emergency action under section 305(c) of the Magnuson-Stevens Act, provided the public has been notified of the Council's intent to take action to address the emergency.

These meetings are physically accessible to people with disabilities. Requests for sign language interpretation or other auxiliary aids should be directed to Dawn Aring at the Council (see ADDRESSES) at least 5 working days prior to the meeting.

Dated: October 4, 2005.
Emily Menashes,
Acting Director, Office of Sustainable Fisheries, National Marine Fisheries Service.

[FR Doc. E5-5526 Filed 10-6-05; 8:45 am]

BILLING CODE 3510-22-S